DEPARTMENT OF ENERGY

Federal Energy Regulatory Commission

[Docket Nos. CP04-58-000, et al.]

Sound Energy Solutions; Notice of Site Visit and Technical Conference

June 24, 2004.

On Tuesday, July 13, 2004, staff of the Federal Energy Regulatory Commission's (Commission) Office of Energy Projects and the Port of Long Beach (POLB) will visit the site of Sound Energy Solutions' (SES) proposed liquefied natural gas (LNG) import terminal and storage facility in Long Beach, California with the project sponsor. This site visit will be open to the public. Anyone interested in participating should meet in front of the Administration Building at 925 Harbor Plaza in the POLB at 9:30 a.m. (P.s.t.) on Tuesday, July 13, 2004. Participants must provide their own transportation to the site. For additional information concerning the site visit, please contact the Commission's Office of External Affairs at 1-866-208-FERC.

On Wednesday, July 14, 2004, at 9 a.m. (P.s.t.), staff of the Office of Energy Projects will convene a cryogenic design and technical conference regarding SES' proposed LNG import terminal and storage facility. The cryogenic conference will be held in the Board Room of the Administration Building at 925 Harbor Plaza in the POLB. In view of the nature of security issues to be explored, the cryogenic conference will not be open to the public. Attendance at this conference will be limited to existing parties to the proceeding (anyone who has specifically requested to intervene as a party) and to representatives of interested federal, state, and local agencies. Any person planning to attend the July 14th cryogenic conference must register by close of business on Monday, July 12, 2004. Registrations may be submitted either online at www.ferc.gov/whats-new/registration/cryo-tech-conf-0714-form.asp or by faxing a copy of the form to 202-208-2106. All attendees must sign a non-disclosure statement prior to entering the conference. For additional information regarding the cryogenic conference, please contact Steven Busch at steven.busch@ferc.gov or call 202-502-6353.

Magalie R. Salas,
Secretary.

[FR Doc. E4-1457 Filed 6-30-04; 8:45 am]

BILLING CODE 6717-01-P